DEPARTMENT OF DEFENSE

Department of the Navy

[Docket ID: USN-2023-HQ-0009]

Submission for OMB Review; Comment Request

AGENCY: Headquarters Marine Corps (HQMC), Department of the Navy (DON), Department of Defense (DoD).

ACTION: 30-Day information collection notice.

SUMMARY: The DoD has submitted to the Office of Management and Budget (OMB) for clearance the following proposal for collection of information under the provisions of the Paperwork Reduction Act.

DATES: Consideration will be given to all comments received by March 28, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: MarineNet Registration; OMB Control Number 0712-MNET.

Type of Request: New collection.

Number of Respondents: 454.

Responses per Respondent: 1.

Annual Responses: 454.

Average Burden per Response: 5 minutes.

Annual Burden Hours: 38.

Needs and Uses: The Marine Corps Training and Education Command (TECOM) is tasked by the Commandant of the Marine Corps to provide individual entry-level training, professional military education (PME) and continuous professional development. TECOM operates MarineNet, a web-based e-learning portal, to assist in the delivery of required training and PME. A collection of pertinent information (i.e., name, social security number, email address) is necessary for administrative access control to confirm the identity and verify the eligibility of individuals seeking access to the training content on the MarineNet portal. Eligible respondents include active-duty military, reservists, dependents, retirees, DoD civilians and contractors seeking initial access to MarineNet for mandatory annual training, PME, and e-learning resources.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: February 22, 2024.
Aaron T. Siegel,
Alternate OSD Federal Register Liaison Officer, Department of Defense.

[FR Doc. 2024-03988 Filed 2-26-24; 8:45 am]

BILLING CODE 6001-FR-P